DEPARTMENT OF THE INTERIOR

Bureau of Land Management

[OR-104-1430-DE: GPO-0304]

Final Environmental Impact Statement (FEIS)—North Bank Habitat Management Area (NBHMA)

AGENCY: Bureau of Land Management, Department of the Interior.

ACTION: Notice of Availability.

SUMMARY: Notice is given that the Bureau of Land Management (BLM), Roseburg District, has prepared an FEIS that describes and analyzes the environmental impacts of management on the 6,580 acre North Bank Habitat Management Area. The action alternatives respond to the need for managing habitats on the NBHMA to maintain or enhance Columbia white-tailed deer (a Federally listed “endangered” species), as well as rare plants and other sensitive species of wildlife; the need to restore and maintain water quality; and the need to manage lands in accordance with existing land use plan decisions. The EIS also identifies recreational opportunities and habitat restoration opportunities. The action alternatives propose different levels of a variety of management actions including: planting, seeding, in-stream restoration, upland watershed restoration, development of water sources, development of forage plots, and the maintenance or enhancement of habitat through burning, fertilization, mowing and grazing. The FEIS analyzes impacts of implementing three alternatives. The alternatives include: (A) no action alternative, (B) a passive and less active approach to management, and (C) an active management alternative (preferred). The effect of this action would be to meet criteria in the Recovery Plan required for delisting the Columbian white-tailed deer.

As a result of public comment and staff review of the Draft EIS (DEIS), the FEIS was written to clarify presentation and provide greater detail of proposed activities. Alternative B was modified to present an alternative that would take a less intrusive and more passive approach to management. Additional detail and analysis of environmental effect was also included in order to address those issues raised during public review of the draft.

The NBHMA is approximately five miles east of Wilbur, Oregon on County Road 200 (North Bank Road).

DATES: A thirty day (30) day public review period for this document will be provided commencing on September 22, 2000 (the date of publication of the EPA Notice).

ADDRESSES: Request for copies should be addressed to the Field Manager, Swiftwater Field Office, Roseburg District, Bureau of Land Management, 777 NW Garden Valley Blvd., Roseburg, Oregon 97470; Attention NBHMA Project.

FOR FURTHER INFORMATION CONTACT: Ralph Klein (Team Lead) 541-440-4930.

SUPPLEMENTARY INFORMATION: (1) The EIS was written in cooperation with the Oregon Department of Fish and Wildlife and the U.S. Fish and Wildlife Service. (2) The EIS is available on the Roseburg District web site (www.or.blm.gov/roseburg).

Dated: September 1, 2000.
Jay K. Carlson,
Field Manager.

[FR Doc. 00-24601 Filed 9-22-00; 10:45 am]

BILLING CODE 4310-33-P